DEPARTMENT OF VETERANS AFFAIRS

38 CFR Part 17

RIN 2900-AN07

Foreign Medical Program of the Department of Veterans Affairs—Hospital Care and Medical Services in Foreign Countries

AGENCY: Department of Veterans Affairs.

ACTION: Final rule.

SUMMARY: This document amends Department of Veterans Affairs (VA) medical regulations applicable to VA's Foreign Medical Program, Hospital Care and Medical Services in Foreign Countries. This rule is intended to change provisions concerning the location for filing Foreign Medical Program claims and delegations of authority for adjudicating those claims. It also corrects an obsolete regulatory citation. These changes are made for accuracy.

DATES: Effective Date: July 27, 2009.

FOR FURTHER INFORMATION CONTACT: Richard M. Trabert, Policy Management Division (741/PMD), VA Health Administration Center, P.O. Box 65020, Denver, CO 80206-9020; (303) 331-7549. (This is not a toll-free number.)

SUPPLEMENTARY INFORMATION: This document amends certain provisions concerning VA's Foreign Medical Program (FMP) in VA's medical regulations in 38 CFR part 17. The FMP is a VA health benefits program designed for a veteran who is residing or traveling outside of the United States, if the veteran requires treatment for a VA-rated service-connected disability or any disability associated with and aggravating a service-connected disability; or if the veteran requires care for certain reasons during participation in a rehabilitation program under 38 U.S.C. chapter 31.

This rule amends 38 CFR 17.35, 17.125, and 17.141.

We are amending § 17.35, “Hospital care and medical services in foreign countries,” to correct an obsolete reference in § 17.35(b) to 38 CFR 17.48(j)(2). The reference is corrected to § 17.47(i)(2) to reflect the redesignation of that paragraph pursuant to two earlier final rules (see 61 FR 21964, 21965 (May 13, 1996); 65 FR 54207, 54218 (Oct. 6, 1999)).

This rule amends § 17.125, “Where to file claims,” to reflect a change in the mailing address for FMP claims sent to the Health Administration Center in Denver, Colorado. It also amends § 17.125, as well as § 17.141, “Authority to adjudicate foreign reimbursement claims,” to remove provisions that distinguish the filing and adjudication of FMP claims for services rendered in Canada from those claims for services rendered in other foreign countries. Currently, these provisions instruct claimants to file claims for services rendered in Canada with the VA Medical Center in White River Junction, Vermont, and reflect a delegation of authority to that office for adjudication of those claims. Current § 17.125 provides that claims for services rendered in other foreign countries (except the Philippines) must be mailed to the Denver Health Administration Center and § 17.141 reflects a delegation of authority to that office for adjudication of those claims. This rule removes the distinction between Canada and other foreign countries, thereby requiring claims under the FMP for services rendered in Canada to be mailed to and adjudicated by the Health Administration Center.

Administrative Procedure Act

This document merely corrects a citation to a regulatory paragraph to reflect that paragraph's redesignation and makes other changes pertaining to agency management, organization, and procedure. Accordingly, its publication as a final rule is pursuant to 5 U.S.C. 553, which exempts such a document from the notice-and-comment requirements of section 553.

Regulatory Flexibility Act

The initial and final regulatory flexibility analyses requirements of sections 603 and 604 of the Regulatory Flexibility Act, 5 U.S.C. 601-612, are not applicable to this rule, because a notice of proposed rulemaking is not required for this rule. Even so, the Secretary of Veterans Affairs hereby certifies that this regulatory amendment will not have a significant economic impact on a substantial number of small entities as they are defined in the Regulatory Flexibility Act, 5 U.S.C. 601-612. Individuals eligible for FMP benefits are widely dispersed geographically and any effect on a small entity from the provisions of this rule will be miniscule. Therefore, this final rule is also exempt pursuant to 5 U.S.C. 605(b) from the initial and final regulatory flexibility analyses requirements of section 603 and 604.

Paperwork Reduction Act of 1995

This document contains no provisions constituting a collection of information under the Paperwork Reduction Act of 1995 (44 U.S.C. 3501-3521).

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any year. This rule will have no such effect on State, local, and tribal governments, or on the private sector.

Executive Order 12866

Executive Order 12866 directs agencies to assess all costs and benefits of available regulatory alternatives and, when regulation is necessary, to select regulatory approaches that maximize net benefits (including potential economic, environmental, public health and safety, and other advantages; distributive impacts; and equity). The Executive Order classifies a regulatory action as a “significant regulatory action,” requiring review by the Office of Management and Budget (OMB) unless OMB waives such review, if it is a regulatory action that is likely to result in a rule that may: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The economic, interagency, budgetary, legal, and policy implications of this final rule have been examined and it has been determined not to be a significant regulatory action under Executive Order 12866.

Catalog of Federal Domestic Assistance

The program that this rule affects has the following Catalog of Federal Domestic Assistance number and title: 64.009, Veterans Medical Care Benefits.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: June 10, 2009.
John R. Gingrich,
Chief of Staff, Department of Veterans Affairs.

For the reasons stated in the preamble, VA amends 38 CFR part 17 as follows:

PART 17—MEDICAL

1. Revise the authority citation for part 17 to read as follows:

Authority: 38 U.S.C. 501, 1721, and as noted in specific sections.

§ 17.35 [Amended]

2. Amend § 17.35(b) by removing “38 CFR 17.48(j)(2)” and adding in its place “§ 17.47(i)(2)”.

§ 17.125 [Amended]

3. Amend § 17.125 by:

a. In paragraph (a), removing “, and” at the end of the paragraph and adding in its place “.”.

b. In paragraph (b), removing “, and” at the end of the paragraph and adding in its place “.”.

c. Removing paragraph (c) and redesignating paragraphs (d) and (e) as paragraphs (c) and (d), respectively.

d. In newly-redesignated paragraph (c), removing “P.O. Box 65023, Denver, CO 80206-3023” and adding in its place “P.O. Box 469063, Denver, CO 80246-9063”.

§ 17.141 [Amended]

4. Amend § 17.141 by removing “Canada which will be referred to the VA Medical Center in White River Junction, VT, and”.

[FR Doc. E9-14966 Filed 6-24-09; 8:45 am]

BILLING CODE P